FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202)-523-5793 or tradeanalysis@fmc.gov.

Agreement No.: 201373.

Agreement Name: CMA/HLAG Vessel Sharing Agreement.

Parties: CMA CGM S.A. and Hapag Lloyd AG.

Filing Party: Draughn Arbona; CMA CGM.

Synopsis: The agreement would authorize the parties to share vessels with one another and cooperate in liner service between the U.S. East Coast on the one hand, and Canada, India, Pakistan, the United Arab Emirates, Saudi Arabia, Egypt, Morocco, Spain and Malta on the other hand.

Proposed Effective Date: 10/25/21.

Location: https://www2.fmc.gov/FMC.Agreements.Web/Public/AgreementHistory/50509.

Agreement No.: 201374.

Agreement Name: CMA CGM/Network Shipping Ltd. Central America—U.S. West Coast Service Space Charter Agreement.

Parties: Network Shipping, Ltd. and CMA CGM S.A.

Filing Party: Draughn Arbona; CMA CGM.

Synopsis: This agreement authorizes Network Shipping Ltd. (“NWS”) to charter space to CMA CGM on vessels operated by NWS in the trade between Costa Rica, Guatemala, and the U.S. West Coast.

Proposed Effective Date: 9/16/2021.

Location: https://www2.fmc.gov/FMC.Agreements.Web/Public/AgreementHistory/50510.

Dated: September 17, 2021.
Rachel E. Dickon,
Secretary.

[FR Doc. 2021-20500 Filed 9-21-21; 8:45 am]

BILLING CODE 6730-02-P